DEPARTMENT OF COMMERCE

International Trade Administration

[C-580-837]

Certain Cut-To-Length Carbon-Quality Steel Plate From the Republic of Korea: Final Results and Rescission, in Part, of Countervailing Duty Administrative Review; 2021

AGENCY: Enforcement and Compliance, International Trade Administration, Department of Commerce.

SUMMARY: The U.S. Department of Commerce (Commerce) determines that countervailable subsidies are being provided to certain producers and exporters of certain cut-to-length carbon-quality steel plate from the Republic of Korea (Korea). The period of review (POR) is January 1, 2021, through December 31, 2021.

DATES: Applicable September 7, 2023.

FOR FURTHER INFORMATION CONTACT: David Lindgren, AD/CVD Operations, Office III, Enforcement and Compliance, International Trade Administration, U.S. Department of Commerce, 1401 Constitution Avenue NW, Washington, DC 20230; telephone: (202) 482-1671.

SUPPLEMENTARY INFORMATION:

Background

Commerce published the Preliminary Results of this review on March 3, 2023.¹ On June 7, 2023, Commerce extended the final results of review to August 30, 2023.² For a complete description of the events that occurred since the Preliminary Results, see the Issues and Decision Memorandum.³

¹ See Certain Cut-to-Length Carbon-Quality Steel Plate from the Republic of Korea: Preliminary Results and Preliminary Intent To Rescind, in Part, the Countervailing Duty Administrative Review; 2021, 88 FR 13433 (March 3, 2023) (Preliminary Results), and accompanying Preliminary Decision Memorandum.

² See Memorandum, “Extension of Deadline for Final Results of Countervailing Duty Administrative Review,” dated June 7, 2023.

³ See Memorandum, “Issues and Decision Memorandum for the Final Results of the Countervailing Duty Administrative Review; 2021: Certain Cut-To-Length Carbon-Quality Steel Plate from the Republic of Korea,” dated concurrently with, and hereby adopted by, this notice (Issues and Decision Memorandum).

Scope of the Order ⁴

⁴ See Notice of Amended Final Determination: Certain Cut-to-Length Carbon-Quality Steel Plate from India and the Republic of Korea; and Notice of Countervailing Duty Orders: Certain Cut-to-Length Carbon-Quality Steel Plate from France, India, Indonesia, Italy, and the Republic of Korea, 65 FR 6587 (February 10, 2000) (Order).

The product covered by this Order is certain cut-to-length carbon-quality steel plate. For a complete description of the scope of this Order, see the Issues and Decision Memorandum.

Rescission of Administrative Review, In Part

Based on our analysis of U.S. Customs and Border Protection (CBP) data and comments received from interested parties, we determine that two companies, BDP International and Sung Jin Steel Co., Ltd had no reviewable shipments, sales, or entries of subject merchandise during the POR. Absent evidence of shipments on the record, we are rescinding the administrative review of these companies, pursuant to 19 CFR 351.213(d)(3). For further information, see “Rescission of Administrative Review, in Part” in the Issues and Decision Memorandum.

Analysis of Comments Received

All issues raised in interested parties' briefs are addressed in the Issues and Decision Memorandum. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific.⁵ For a description of the methodology underlying all of Commerce's conclusions, see the Issues and Decision Memorandum.

⁵ See sections 771(5)(B) and (D) of the Act regarding financial contribution; section 771(5)(E) of the Act regarding benefit; and section 771(5A) of the Act regarding specificity.

Changes Since the Preliminary Results

Based on a review of the record and comments received from interested parties regarding our Preliminary Results, and for the reasons explained in the Issues and Decision Memorandum, we made one modification to our calculations for these final results of review.

Company Not Selected for Individual Review

To determine the rate for companies not selected for individual examination, Commerce's practice, in accordance with section 705(c)(5)(A) of the Act, is to weight average the net countervailable subsidy rates for the selected mandatory companies, excluding rates that are zero, de minimis, or based entirely on facts available.⁶ In this review, because we determined that the sole mandatory respondent, Hyundai Steel Co., Ltd. (Hyundai Steel), received countervailable subsidies that are above de minimis and are not entirely based on facts available, we have applied Hyundai Steel's net subsidy rate to the non-selected company, Dongkuk Steel Mill Co. Ltd.

⁶ See, e.g., Certain Pasta from Italy: Final Results of the 13th (2008) Countervailing Duty Administrative Review, 75 FR 37386, 37387 (June 29, 2010).

Final Results of Administrative Review

We determine that, for the period January 1, 2021, through December 31, 2021, the following net countervailable subsidy rates exist:

Producer/exporter | Subsidy rate (percent ad valorem)
Hyundai Steel Co., Ltd | 1.08
Dongkuk Steel Mill Co., Ltd | 1.08

Disclosure

Commerce intends to disclose the calculations performed for these final results of review within five days of the date of publication of this notice in the Federal Register, in accordance with 19 CFR 351.224(b).

Assessment Rate

Consistent with section 751(a)(2)(C) of the Act and 19 CFR 351.212(b)(2), upon issuance of the final results, Commerce shall determine, and CBP shall assess, countervailing duties on all appropriate entries covered by this review. For the companies for which this review is rescinded, we will instruct CBP to assess countervailing duties on all appropriate entries at a rate equal to the cash deposit of estimated countervailing duties required at the time of entry, or withdrawal from warehouse, for consumption, during the period January 1, 2021, through December 31, 2021, in accordance with 19 CFR 351.212(c)(l)(i). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

In accordance with section 751(a)(2)(C) of the Act, Commerce intends to instruct CBP to collect cash deposits of estimated countervailing duties in the amounts shown for the companies subject to this review. For all non-reviewed companies, we will instruct CBP to continue to collect cash deposits of estimated countervailing duties at the most recent company-specific or all-others rate applicable to the company, as appropriate. These cash deposits, when imposed, shall remain in effect until further notice.

Administrative Protective Order

This notice also serves as a final reminder to parties subject to administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation subject to sanction.

Notice to Interested Parties

These final results are issued and published in accordance with sections 751(a)(1) and 777(i)(1) of the Act, and 19 CFR 351.213(d)(4) and 19 CFR 351.221(b)(5).

Dated: August 30, 2023.
Lisa W. Wang,
Assistant Secretary for Enforcement and Compliance.

Appendix

List of Topics Discussed in the Issues and Decision Memorandum

I. Summary

II. Background

III. Scope of the Order

IV. Period of Review

V. Rescission of Administrative Review, In Part

VI. Subsidies Valuation Information

VII. Use of Facts Otherwise Available

VIII. Analysis of Programs

IX. Discussion of Comments

Comment 1: Whether To Accept Korea Electric Power Company's (KEPCO) Cost Data

Comment 2: Whether KEPCO's Electricity Rates are in Accordance With Market Principles

Comment 3: Whether the Electricity for Less-Than-Adequate-Remuneration (LTAR) Program Is Specific

Comment 4: Whether To Adjust the Calculation of Electricity for LTAR

Comment 5: Whether the Korea Emissions Trading System (K-ETS) Program Is Countervailable

Comment 6: Whether To Include Swap in the Benchmark Price for the K-ETS Program

Comment 7: Whether Hyundai Steel and Hyundai Green Power (HGP) are Cross-Owned

Comment 8: Whether To Initiate on the Alleged Loans to HGP Program

Comment 9: Selection of a Final Rate for Dongkuk Steel Mill Co., Ltd.

X. Recommendation

[FR Doc. 2023-19206 Filed 9-6-23; 8:45 am]

BILLING CODE 3510-DS-P